DEPARTMENT OF COMMERCE

National Oceanic and Atmospheric Administration

50 CFR Part 679

[I.D. 101702B]

RIN:0648-AP92

Fisheries of the Exclusive Economic Zone off Alaska; Recordkeeping and Reporting Changes to the Individual Fishing Quota Program (IFQ) for Pacific Halibut and Sablefish

AGENCY: National Marine Fisheries Service (NMFS), National Oceanic and Atmospheric Administration (NOAA), Commerce.

ACTION: Notice of availability (NOA) of Amendments 72/64 to fishery management plans; request for comments.

SUMMARY: The North Pacific Fishery Management Council (Council) has submitted Amendment 72 to the Fishery Management Plan for the Groundfish Fishery of the Bering Sea and Aleutian Islands and Amendment 64 to the Fishery Management Plan for Groundfish of the Gulf of Alaska. Amendments 72/64 would implement revisions to the recordkeeping and reporting (R and R) regulations established to monitor and enforce the IFQ Program for fixed gear Pacific halibut and sablefish fisheries in and off Alaska. The purpose of this action is to reduce reporting burden for processors and registered buyers, while maintaining existing data collection, monitoring, and enforcement capabilities.

DATES: Comments on Amendments 72 and 64 must be received at the following address by December 27, 2002.

ADDRESSES: Comments on Amendments 72/64 may be mailed to Sue Salveson, Assistant Regional Administrator, Sustainable Fisheries Division, Alaska Region, NMFS, P.O. Box 21668, Juneau, AK 99802-1668, Attn: Lori Gravel-Durall. Hand delivery or courier delivery of comments may be sent to the Federal Building, 709 West 9th St., Room 453, Juneau, AK 99801. Copies of Amendments 72/64 and the Regulatory Impact Review/Initial Regulatory Flexibility Analysis (RIR/IRFA) prepared for this action are available from NMFS at the above address, or by calling the Alaska Region, NMFS, at 907-586-7228.

FOR FURTHER INFORMATION CONTACT: Patsy A. Bearden, 907-586-7228, patsy.bearden@noaa.gov

SUPPLEMENTARY INFORMATION: The Magnuson-Stevens Fishery Conservation and Management Act (Magnuson-Stevens Act) requires that each regional fishery management council submit any FMP or FMP amendment it prepares to NMFS for review and approval, disapproval, or partial approval. The Magnuson-Stevens Act also requires that NMFS, upon receiving an FMP, immediately publish a notice in the Federal Register that the FMP or amendment is available for public review and a 60-day comment period (see section 304(a)(1)(B).

Amendments 72/64 were adopted by the Council in April 2002. If approved by NMFS, these amendments would be combined with regulatory amendments that would relieve some RR requirements for the IFQ fisheries. The amendments are necessary to comply with National Standard 7 (16 U.S.C. 1851(a)(7)), which states, “Conservation and Management measures shall, where practicable, minimize costs and avoid unnecessary duplication.” The proposed action that would require FMP amendment is as follows: Eliminate the vessel clearance requirement and replace it with a verbal “departure report” prior to leaving the jurisdiction of the Council. This action would modify the requirement in the BSAI and GOA FMPs for vessels with IFQ sablefish catch leaving the jurisdiction of the Council to check in with NMFS at a certified port and have the vessel's hold sealed prior to departure. This action makes no change in current management practices in the IFQ fisheries. This action would relieve some reporting burden and operational restrictions on vessels by allowing vessels leaving the jurisdiction of the Council to provide a verbal “departure report” rather than going to a specific port for a vessel clearance. Enforcement personnel are not currently able to effectively determine catch quantity at the vessel clearance port and are unable to seal a vessel's hold without compromising vessel safety. Thus, from a monitoring and enforcement perspective, no effective difference exists between a verbal “departure report” and the verbal vessel clearance report. This action could reduce the time vessels are required to stay in port and could reduce operating costs for vessels that are landing catch in locations outside of Alaska. This action would also amend the FMPs to ensure that the scope of the FMPs is within the practical limitations of enforcement to meet the requirements of the FMPs. This action, if adopted, modifies existing recordkeeping and reporting requirements.

Public comments are being solicited on the amendments through the end of the comment period stated in this NOA. A proposed rule that would implement the amendments as well as regulatory amendments proposing other changes to recordkeeping and reporting requirements for the IFQ fisheries will be published in the Federal Register for public comment following NMFS' evaluation under the Magnuson-Stevens Act procedures. Public comments on the proposed rule must be received by the end of the comment period on Amendments 72/64 to be considered in the approval/disapproval decision on the amendments, whether specifically directed to the amendments or the proposed rule. Comments received after that date will not be considered in the approval/disapproval decision on the amendments. To be considered in the approval/disapproval decision, comments must be received by the close of business on the last day of the comment period specified in this NOA; that does not mean postmarked or otherwise transmitted by that date.

Dated: October 23, 2002.
Bruce C. Moorehead
Acting Director, Office of Sustainable Fisheries, National Marine Fisheries Service.

[FR Doc. 02-27512 Filed 10-28-02; 8:45 am]

BILLING CODE 3510-22-S